NATIONAL SCIENCE FOUNDATION

Agency Information Collection Activities: Proposed Collection; Comment Request

AGENCY: National Science Foundation.

ACTION: Notice and request for comments.

SUMMARY: Under the Paperwork Reduction Act of 1995, and as part of its continuing effort to reduce paperwork and respondent burden, the National Center for Science and Engineering Statistics (NCSES) within the National Science Foundation (NSF) is inviting the general public or other Federal agencies to comment on this proposed continuing information collection. The NCSES will publish periodic summaries of the proposed projects.

DATES: Written comments on this notice must be received by October 15, 2018 to be assured consideration. Comments received after that date will be considered to the extent practicable. Send comments to address below.

FOR FURTHER INFORMATION CONTACT: Suzanne H. Plimpton, Reports Clearance Officer, National Science Foundation, 2415 Eisenhower Avenue, Suite W18253, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION: Comments: Comments are invited on (a) whether the proposed collection of information is necessary for the proper performance of the functions of the NCSES, including whether the information will have practical utility; (b) the accuracy of the NCSES's estimate of the burden of the proposed collection of information; (c) ways to enhance the quality, utility, and clarity of the information to be collected, including through the use of automated collection techniques or other forms of information technology; and (d) ways to minimize the burden of the collection of information on those who are to respond, including through the use of appropriate automated collection techniques or other forms of information technology.

Title of Collection: 2019 Survey of Doctorate Recipients.

OMB Approval Number: 3145-0020.

Expiration Date of Approval: June 30, 2020.

Type of Request: Intent to seek approval to renew an information collection for three years.

1. Abstract. The Survey of Doctorate Recipients (SDR) has been conducted biennially since 1973 and is a longitudinal survey. The 2019 SDR will consist of a sample of individuals under 76 years of age who have earned a research doctoral degree in a science, engineering or health (SEH) field from a U.S. institution. The purpose of this panel survey is to collect data that will be used to provide national estimates on the doctoral science and engineering workforce and changes in their employment, education and demographic characteristics.

The National Science Foundation Act of 1950, as subsequently amended, includes a statutory charge to “. . . provide a central clearinghouse for the collection, interpretation, and analysis of data on scientific and engineering resources, and to provide a source of information for policy formulation by other agencies of the Federal Government.” The SDR is designed to comply with these mandates by providing information on the supply and utilization of the nation's doctoral level scientists and engineers.

Data will be obtained by web survey, mail questionnaire, and computer-assisted telephone interviews beginning in February 2019. The survey will be collected in conformance with the Confidential Information Protection and Statistical Efficiency Act of 2002 and the individual's response to the survey is voluntary. NCSES will ensure that all information collected will be kept strictly confidential and will be used only for statistical purposes.

2. Use of the Information. NCSES uses the information from the SDR to prepare congressionally mandated reports such as Women, Minorities and Persons with Disabilities in Science and Engineering and Science and Engineering Indicators. NCSES publishes statistics from the SDR in many reports, but primarily in the biennial series, Characteristics of Scientists and Engineers with U.S. Doctorates. A public release file of collected data, designed to protect respondent confidentiality, also will be made available to researchers on the internet.

3. Expected Respondents. The U.S. Office of Management and Budget (OMB) previously directed that NCSES enhance and expand the sample to measure employment outcomes by the fine field of degree taxonomy used in the Survey of Earned Doctorates. This was initiated in the 2015 cycle and maintained in the 2017 cycle. For the 2019 SDR, a statistical sample of approximately 120,000 individuals with U.S. earned doctorates in science, engineering or health will be contacted. This sample will include approximately 106,400 individuals residing in the U.S. and 13,600 residing abroad. NCSES expects the overall 2019 SDR response rate to be approximately 75 percent.

4. Estimate of Burden. The amount of time to complete the questionnaire may vary depending on an individual's circumstances; however, on average, it takes approximately 25 minutes. Thus, NCSES estimates that the total annual burden for both components will be 37,500 hours (that is, 120,000 respondents at 75% response rate for 25 minutes).

Dated: August 8, 2018.
Suzanne H. Plimpton,
Reports Clearance Officer, National Science Foundation.

[FR Doc. 2018-17359 Filed 8-13-18; 8:45 am]

BILLING CODE 7555-01-P